DEPARTMENT OF ENERGY

Federal Energy Regulatory Commission

Combined Notice of Filings #1

Take notice that the Commission received the following electric corporate filings:

Docket Numbers: EC20-94-000.

Applicants: IIF US Holding LP, IIF US Holding 2 LP.

Description: Application for Authorization Under Section 203 of the Federal Power Act, et al. of IIF US Holding LP, et al.

Filed Date: 8/31/20.

Accession Number: 20200831-5451.

Comments Due: 5 p.m. ET 9/21/20.

Docket Numbers: EC20-95-000.

Applicants: Up Power Marketing, LLC.

Description: Application for Authorization Under Section 203 of the Federal Power Act, et al. of UP Power Marketing, LLC.

Filed Date: 8/31/20.

Accession Number: 20200831-5480.

Comments Due: 5 p.m. ET 9/21/20.

Docket Numbers: EC20-96-000.

Applicants: NRG Energy, Inc., Direct Energy Marketing Inc., Direct Energy Services, LLC., Direct Energy Business, LLC, Direct Energy Business Marketing, LLC, Gateway Energy Services Corporation.

Description: Application for Authorization Under Section 203 of the Federal Power Act, et al. of NRG Energy, Inc., et al.

Filed Date: 8/31/20.

Accession Number: 20200831-5492.

Comments Due: 5 p.m. ET 10/15/20.

Take notice that the Commission received the following electric rate filings:

Docket Numbers: ER12-161-022; ER12-2068-018; ER12-645-022; ER10-2460-018; ER10-2461-019; ER12-682-019; ER10-2463-018; ER11-2201-022; ER13-1139-021; ER13-17-016; ER14-25-017; ER14-2630-014; ER12-1311-018; ER10-2466-019; ER11-4029-018.

Applicants: Bishop Hill Energy LLC., Blue Sky East, LLC, California Ridge Wind Energy LLC, Canandaigua Power Partners, LLC, Canandaigua Power Partners II, LLC, Erie Wind, LLC, Evergreen Wind Power, LLC, Evergreen Wind Power III, LLC, Imperial Valley Solar 1, LLC, Niagara Wind Power, LLC, Prairie Breeze Wind Energy LLC, Regulus Solar, LLC, Stetson Holdings, LLC, Stetson Wind II, LLC, Vermont Wind, LLC.

Description: Notice of Non-Material Change in Status of Bishop Hill Energy LLC, et al.

Filed Date: 8/31/20.

Accession Number: 20200831-5502.

Comments Due: 5 p.m. ET 9/21/20.

Docket Numbers: ER20-282-002.

Applicants: FPL Energy Illinois Wind, LLC.

Description: Compliance filing: Compliance filing for Docket ER20-282 to be effective 12/31/2019.

Filed Date: 9/1/20.

Accession Number: 20200901-5135.

Comments Due: 5 p.m. ET 9/22/20.

Docket Numbers: ER20-2379-000.

Applicants: Sugar Creek Wind One LLC.

Description: Supplement to July 10, 2020 Sugar Creek Wind One LLC tariff filing.

Filed Date: 8/31/20.

Accession Number: 20200831-5484.

Comments Due: 5 p.m. ET 9/21/20.

Docket Numbers: ER20-2586-000.

Applicants: North Fork Ridge Wind, LLC.

Description: Supplement to July 31, 2020 North Fork Ridge Wind, LLC tariff filing.

Filed Date: 8/31/20.

Accession Number: 20200831-5478.

Comments Due: 5 p.m. ET 9/21/20.

Docket Numbers: ER20-2587-000.

Applicants: Kings Point Wind, LLC.

Description: Supplement to July 31, 2020 Kings Point Wind, LLC tariff filing.

Filed Date: 8/31/20.

Accession Number: 20200831-5479.

Comments Due: 5 p.m. ET 9/21/20.

Docket Numbers: ER20-2788-000.

Applicants: Midcontinent Independent System Operator, Inc.

Description: Compliance filing: 2020-08-31_Compliance Filing regarding Affected Systems (PJM JOA) to be effective 9/1/2020.

Filed Date: 8/31/20.

Accession Number: 20200831-5378.

Comments Due: 5 p.m. ET 9/21/20.

Docket Numbers: ER20-2789-000.

Applicants: PJM Interconnection, L.L.C.

Description: § 205(d) Rate Filing: Amendment to ISA No. 4047; Queue None, Robert Mone Plant (consent and amend) to be effective 11/1/2014.

Filed Date: 8/31/20.

Accession Number: 20200831-5399.

Comments Due: 5 p.m. ET 9/21/20.

Docket Numbers: ER20-2790-000.

Applicants: Appalachian Power Company.

Description: § 205(d) Rate Filing: OATT—Revise Attachment K, AEP Texas Inc. Rate Update to be effective 12/31/9998.

Filed Date: 8/31/20.

Accession Number: 20200831-5392.

Comments Due: 5 p.m. ET 9/21/20.

Docket Numbers: ER20-2791-000.

Applicants: PacifiCorp.

Description: Tariff Cancellation: Termination of BPA Construct Agmt for Lost Creek BAA Move to be effective 11/16/2020.

Filed Date: 8/31/20.

Accession Number: 20200831-5434.

Comments Due: 5 p.m. ET 9/21/20.

Docket Numbers: ER20-2792-000.

Applicants: Missisquoi, LLC.

Description: Baseline eTariff Filing: Shared Facilities Agreement to be effective 9/1/2020.

Filed Date: 8/31/20.

Accession Number: 20200831-5438.

Comments Due: 5 p.m. ET 9/21/20.

Docket Numbers: ER20-2793-000.

Applicants: Public Service Company of Colorado.

Description: § 205(d) Rate Filing: 2020-09-01_PSC-HLYCRS-Affected Party SISA-608-000 to be effective 9/2/2020.

Filed Date: 9/1/20.

Accession Number: 20200901-5197.

Comments Due: 5 p.m. ET 9/22/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2020.
Nathaniel J. Davis, Sr.,
Deputy Secretary.

[FR Doc. 2020-19766 Filed 9-4-20; 8:45 am]

BILLING CODE 6717-01-P